DEPARTMENT OF COMMERCE

National Oceanic and Atmospheric Administration

[I.D. 112601C]

Marine Mammals; File No. 87-1593-01

AGENCY: National Marine Fisheries Service (NMFS), National Oceanic and Atmospheric Administration (NOAA), Commerce.

ACTION: Issuance of permit amendment.

SUMMARY: Notice is hereby given that Dr. Daniel Costa (Principal Investigator), Institute of Marine Sciences, Earth & Marine Sciences Bldg. A316, University of California, Santa Cruz, CA, 95064, has been issued an amendment to take marine mammals for scientific research Permit No. 87-1593-00.

ADDRESSES: The amendment and related documents are available for review upon written request or by appointment in the following office(s):

Permits and Documentation Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Ruth Johnson or Amy Sloan (301)713-2289.

SUPPLEMENTARY INFORMATION: On October 9, 2001, notice was published in the Federal Register (66 FR 51395) that an amendment of Permit No. 87-1593-00 February 21, 2001 (66 FR 12763), had been requested by the above-named individual. The requested amendment has been granted under the authority of the Marine Mammal Protection Act of 1972, as amended (16 U.S.C. 1361 et seq.) and the Regulations Governing the Taking and Importing of Marine Mammals (50 CFR part 216).

Dated: December 4, 2001.
Ann D. Terbush,
Chief, Permits, Conservation and Education Division, Office of Protected Resources, National Marine Fisheries Service.

[FR Doc. 01-30598 Filed 12-10-01; 8:45 am]

BILLING CODE 3510-22-S